DEPARTMENT OF ENERGY

Federal Energy Regulatory Commission

[Project No. 2100-188]

California Department of Water Resources; Notice of Application Accepted for Filing, Soliciting Comments, Motions To Intervene, and Protests

Take notice that the following hydroelectric application has been filed with the Commission and is available for public inspection:

a. Type of Application: Amendment of Recreation Plan to realign a recreation trail.

b. Project No.: 2100-188.

c. Date Filed: October 4, 2018.

d. Applicant: California Department of Water Resources.

e. Name of Project: Feather River Project.

f. Location: Feather River in Butte County, California.

g. Filed Pursuant to: Federal Power Act, 16 U.S.C. 791a-825r.

h. Applicant Contact: Gwen Knittweis, California Department of Water Resources, 1416 Ninth Street, P.O. Box 942836, Sacramento, CA 94236, (916) 557-4554.

i. FERC Contact: Krista Sakallaris, (202) 502-6302, krista.sakallaris@ferc.gov.

j. Deadline for filing comments, motions to intervene, and protests is November 29, 2018. The Commission strongly encourages electronic filing. Please file comments, motions to intervene, and protests using the Commission's eFiling system at http://www.ferc.gov/docs-filing/efiling.asp. Commenters can submit brief comments up to 6,000 characters, without prior registration, using the eComment system at http://www.ferc.gov/doc-sfiling/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2100-188. Comments emailed to Commission staff are not considered part of the Commission record.

k. Description of Request: The licensee requests Commission approval to realign a segment of the Brad Freeman Trail around the Hyatt Powerplant and construct a new trail access point to replace access closed for the Hyatt Security Hardening project. The section of the Brad Freeman Trail proposed for realignment starts near the intersection of Oro Dam Boulevard and Oro Powerhouse Road and extends to the Lower Overlook Parking Area. The proposed location for the new trail access point is on the south side of the Diversion Pool in a disturbed area that was used as a staging site during the emergency response to the 2017 spillway incident. Any comments relating to project relicensing are not within the scope of this public notice and subsequent analysis.

l. Locations of the Application: A copy of the application is available for inspection and reproduction at the Commission's Public Reference Room, located at 888 First Street NE, Room 2A, Washington, DC 20426, or by calling (202) 502-8371. This filing may also be viewed on the Commission's website at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above.

m. Individuals desiring to be included on the Commission's mailing list should so indicate by writing to the Secretary of the Commission.

n. Comments, Motions to Intervene, or Protests: Anyone may submit comments, a motion to intervene, or a protest in accordance with the requirements of Rules of Practice and Procedure, 18 CFR 385.210, .211, .214. In determining the appropriate action to take, the Commission will consider all protests or other comments filed, but only those who file a motion to intervene in accordance with the Commission's Rules may become a party to the proceeding. Any comments, motions to intervene, or protests must be received on or before the specified comment date for the particular application.

o. Filing and Service of Documents: Any filing must (1) bear in all capital letters the title “COMMENTS”, “PROTEST”, or “MOTION TO INTERVENE”, as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding in accordance with 18 CFR 385.2010.

Dated: October 29, 2018.
Kimberly D. Bose,
Secretary.

[FR Doc. 2018-23999 Filed 11-1-18; 8:45 am]

BILLING CODE 6717-01-P